DEPARTMENT OF COMMERCE

National Oceanic and Atmospheric Administration

[RTID 0648-XE819]

Research Track Assessment for Atlantic Sea Scallops; Public Meeting

AGENCY: National Marine Fisheries Service (NMFS), National Oceanic and Atmospheric Administration (NOAA), Commerce.

ACTION: Notice of public meeting.

SUMMARY: NMFS will convene the Research Track Assessment Peer Review Meeting for the purpose of reviewing the Atlantic sea scallop stock. The Research Track Assessment Peer Review is a formal scientific peer-review process for evaluating and presenting stock assessment results to managers for fish stocks in the offshore U.S. waters of the northwest Atlantic. Assessments are prepared by the research track working group and reviewed by an independent panel of stock assessment experts from the Center of Independent Experts. The public is invited to attend the presentations and discussions between the review panel and the scientists who have participated in the stock assessment process.

DATES: The Research Track Assessment Peer Review Meeting will be held from April 21, 2025-April 24, 2025. The meeting will conclude on April 24, 2025 at 1 p.m. Eastern Standard Time. Please see SUPPLEMENTARY INFORMATION for the daily meeting agenda.

ADDRESSES: The meeting will be held in person and virtually. The in-person meeting will be held in the S.H. Clark Conference Room in the Aquarium Building of the National Marine Fisheries Service, Northeast Fisheries Science Center (NEFSC), 166 Water Street, Woods Hole, MA 02543 and virtually using this Google Meet link: https://meet.google.com/her-pcjt-aog.

FOR FURTHER INFORMATION CONTACT: Brian Hooper, 508-258-9580; brian.hooper@noaa.gov.

SUPPLEMENTARY INFORMATION: For further information, please visit the NEFSC website at https://www.fisheries.noaa.gov/new-england-mid-atlantic/population-assessments/fishery-stock-assessments-new-england-and-mid-atlantic. For additional information about research track assessment peer review, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Time | Topic | Presenter(s) | Notes
Monday, April 21, 2025
9 a.m.-9:05 a.m | Welcome & Logistics | Brian Hooper
9:05 a.m.-9:15 a.m | Introductions & Agenda | Tom Miller
9:15 a.m.-9:40 a.m | Overview of Research Track Process and Scallop Research Track | Kristan Blackhart
9:40 a.m.-10:10 a.m | Management History and Fishery Practices | Jonathon Peros
10:10 a.m.-10:30 a.m | Summary of Community Engagement Session | Jonathon Peros
10:30 a.m.-10:45 a.m | BREAK
10:45 a.m.-11:30 a.m | Scallop Life History | Dvora Hart
11:30 a.m.-12 p.m | Term of Reference (TOR) 1 Overview | Dvora Hart | Ecosystem.
12 p.m.-1 p.m | LUNCH
1 p.m.-1:30 p.m | Temperature Influences | Joseph Caracappa | Ecosystem.
1:30 p.m.-2 p.m | Shell Disease and Nematodes | Dave Rudders | Ecosystem.
2 p.m.-2:45 p.m | TOR 1 Question and Answer (Q&A) | Review Panel | Ecosystem.
2:45 p.m.-3 p.m | BREAK
3 p.m.-3:30 p.m | TOR 2 | Jessica Blaylock | Catch.
3:30 p.m.-4 p.m | TOR 2 Q&A | Review Panel | Catch.
4 p.m.-4:15 p.m | Public Comment | Public
4:15 p.m.-5 p.m | Discussion & Summary | Review Panel | Conclusions, Recommendations, & Final Wrap-up for TORs 1 & 2.
5 p.m | ADJOURN
Tuesday, April 22, 2025
9 a.m.-9:05 a.m | Welcome & Logistics Agenda | Brian Hooper Tom Miller
9:05 a.m.-9:25 a.m | Gulf of Maine Surveys | Jonathon Peros
9:25 a.m.-10:10 a.m | TOR 3 | Dvora Hart | Surveys.
10:10 a.m.-10:45 a.m | TOR 3 Q&A | Review Panel | Surveys.
10:45 a.m.-11 a.m | BREAK
11 a.m.-12 p.m | Mid-Atlantic Catch At Size Analysis (CASA) Model | Jui-Han Chang | Models.
12 p.m.-1 p.m | LUNCH
1 p.m.-2 p.m | Georges Bank Closed Areas CASA Model | Jui-Han Chan | Models.
2 p.m.-3 p.m | Georges Bank Open Areas CASA Model | Jui-Han Chan | Models.
3 p.m.-3:15 p.m | BREAK
3:15 p.m.-3:45 p.m | TOR 4 Q&A | Review Panel | Models.
3:45 p.m.-4 p.m | Public Comment | Public
4 p.m.-5 p.m | Discussion & Summary | Review Panel | Conclusions, Recommendations, & Final Wrap-up for TORs 3 & 4.
5 p.m | ADJOURN
Wednesday, April 23, 2025
9 a.m. -9:05 a.m | Welcome & Logistics Agenda | Brian Hooper Tom Miller
9:05 a.m.-10 a.m | Review Homework | Review Panel | If needed.
10 a.m.-10:45 a.m | TOR 5 | Dvora Hart | Biological Reference Points (BRPs).
10:45 a.m.-11a.m | BREAK
11 a.m.-12 p.m | TOR 5 Q&A | Review Panel | BRPs.
12 p.m.-1 p.m | LUNCH
1 p.m.-1:45 p.m | TOR 6 | Dvora Hart | Projections.
1:45 p.m.-2:30 p.m | TOR 6 Q&A | Review Panel | Projections.
2:30 p.m.-3 p.m | TOR 8 | Patrick Sullivan | Backup Approach.
3 p.m.-3:15 p.m | BREAK
3:15 p.m.-3:45 p.m | TOR 8 Q&A | Review Panel | Backup Approach.
3:45 p.m.-4 p.m | Public Comment | Public
4 p.m.-5 p.m | Discussion & Summary | Review Panel | Conclusions, Recommendations, & Final Wrap-up for TORs 5, 6, & 8.
5 p.m | ADJOURN
Thursday, April 24, 2025
9 a.m.-9:05 a.m | Welcome & Logistics Agenda | Brian Hooper Tom Miller
9:05 a.m.-10:30 a.m | Review Homework | Review Panel | If needed.
10:30 a.m.-10:45 a.m | BREAK
11 a.m.-11:30 a.m | TOR 7 | Jonathon Peros | Research Recommendations.
11:30 a.m.-11:45 a.m | TOR 7 Q&A | Review Panel | Research Recommendations.
11:45 a.m.-12 p.m | Public Comment | Public
12 p.m.-1 p.m | Discussion & Summary | Review Panel | Conclusions, Recommendations, & Final Wrap-up TOR 7; any remaining issues.
1 p.m | ADJOURN

Special Accommodations

This meeting is physically accessible to people with disabilities. Special requests should be directed to Brian Hooper, via the email provided in the ADDRESSES section.

Authority: 16 U.S.C. 1801 et seq.

Dated: March 27, 2025.
Karen H. Abrams,
Acting Director, Office of Sustainable Fisheries, National Marine Fisheries Service.

[FR Doc. 2025-05618 Filed 4-1-25; 8:45 am]

BILLING CODE 3510-22-P